DEPARTMENT OF AGRICULTURE

Cooperative State Research, Education, and Extension Service Request for Proposals (RFP): Community Food Projects Competitive Grants Program, Fiscal Year 2000

AGENCY: Cooperative State Research, Education, and Extension Service (CSREES), USDA.

ACTION: Notice of request for proposals and request for input.

SUMMARY: The Federal Agriculture Improvement and Reform Act of 1996 established new authority for a program of Federal grants to support the development of community food projects designed to meet the food needs of low-income people; increase the self-reliance of communities in providing for their own food needs; and promote comprehensive responses to local food, farm, and nutrition issues.

This RFP sets out the objectives for these projects, the eligibility criteria for projects and applicants, and the application procedures. Proposals are requested for (1) projects designed to increase food security in a community (termed Community Food Projects), and (2) projects that provide Training and Technical Assistance on a nationwide basis to entities interested in developing Community Food Projects (termed T&TA Projects).

This RFP contains the entire set of instructions needed to apply for a Fiscal Year (FY) 2000 Community Food Projects Competitive Grants Program grant.

By this notice, CSREES additionally solicits stakeholder input from any interested party regarding the FY 2000 Community Food Projects Competitive Grants Program for use in development of any future requests for proposals for this program.

DATES: Proposals must be received on or before June 29, 2000. Proposals received after this date will not be considered for funding. Comments regarding this request for proposals are requested within six months from the issuance of this notice. Comments received after that date will be considered to the extent practicable.

ADDRESSES: The address for hand-delivered proposals or proposals submitted using an express mail or overnight courier service is: Community Food Projects Competitive Grants Program; c/o Proposal Services Unit; Cooperative State Research, Education, and Extension Service; U.S. Department of Agriculture; Room 303, Aerospace Center; 901 D Street, SW, Washington, DC 20024.

Proposals sent via the U.S. Postal Service must be sent to the following address: Community Food Projects Competitive Grants Program; c/o Proposal Services Unit; Cooperative State Research, Education, and Extension Service; U.S. Department of Agriculture; STOP 2245; 1400 Independence Avenue, SW; Washington, DC 20250-2245.

Written comments should be submitted by mail to: Policy and Program Liaison Staff; Office of Extramural Programs; USDA-CSREES; STOP 2299; 1400 Independence Avenue, SW; Washington, DC 20250-2299; or via e-mail to: RFP-OEP@reeusda.gov. In your comments, please include the name of the program and the fiscal year of the RFP to which you are responding.

FOR FURTHER INFORMATION CONTACT: Dr. Mark R. Bailey, Cooperative State Research, Education, and Extension Service, U.S. Department of Agriculture, STOP 2241, 1400 Independence Avenue, SW, Washington, DC 20250-2241; telephone: (202) 401-1898; mbailey@reeusda.gov, or Dr. Elizabeth Tuckermanty, Cooperative State Research, Education, and Extension Service, U.S. Department of Agriculture, STOP 2240, 1400 Independence Avenue, SW, Washington, DC 20250-2240, telephone: (202) 205-0241; Internet: etuckermanty@reeusda.gov.

SUPPLEMENTARY INFORMATION:

Table of Contents

Stakeholder Input

Catalog of Federal Domestic Assistance

Part I—General Information

A. Legislative Authority

B. Purpose, Scope and Fund Availability

C. Definitions

D. Eligibility

E. Matching Requirements

Part II—Preparation of a Proposal

A. Program Application Material

B. Content of Proposals

C. Submission of Proposals

D. Acknowledgment of Proposals

Part III—Review Process

A. General

B. Evaluation Factors

C. Conflicts of Interest and Confidentiality

Part IV—Additional Information

A. Access to Peer Review Information

B. Grant Awards

C. Use of Funds; Changes

D. Applicable Federal Statutes and Regulations

E. Confidential Aspects of Proposals and Awards

F. Regulatory Information

Stakeholder Input

CSREES is soliciting comments regarding this solicitation of applications from any interested party. These comments will be considered in the development of any future RFP for the program. CSREES has determined that this program is not an agricultural research, extension, or education program for the purposes of section 103(c)(2) of the Agricultural Research, Extension, and Education Reform Act of 1998, 7 U.S.C. 7613(c)(2). Therefore, CSREES is not required by statute to solicit stakeholder input regarding this RFP. CSREES, however, always welcomes constructive comments from interested parties regarding an RFP or particular program. Comments should be submitted as provided for in the Addresses and Dates portions of this Notice.

Catalog of Federal Domestic Assistance

This program is listed in the Catalog of Federal Domestic Assistance under 10.225, Community Food Projects Competitive Grants Program.

Part I—General Information

A. Legislative Authority

Section 25 of the Food Stamp Act of 1977, as amended by Section 401(h) of the Federal Agriculture Improvement and Reform Act of 1996 (Pub. L. No. 104-127) (7 U.S.C. 2034), authorized a new program of Federal grants to support the development of community food projects.

B. Purpose, Scope and Fund Availability

1. Purpose and Scope

a. Community Food Projects. The purpose of the Community Food Projects Competitive Grants Program (CFPCGP) is to support the development of Community Food Projects with a one-time infusion of Federal dollars to make such projects self-sustaining or to support stand-alone T&TA activities. Community Food Projects should be designed to: (i) Meet the food needs of low-income people; (ii) increase the self-reliance of communities in providing for their own food needs; and (iii) promote comprehensive responses to local food, farm, and nutrition issues.

Community Food Projects are intended to take a comprehensive approach to developing long-term solutions that help to ensure food security in communities by linking the food production and processing sectors to community development, economic opportunity, and environmental enhancement. Comprehensive solutions may include elements such as: (i) Improved access to high quality, affordable food among low-income households; (ii) expanded economic opportunities for community residents through local businesses or other economic development, improved employment opportunities, job training, youth apprenticeship, school-to-work transition, and the like, and (iii) support for local food systems, from urban gardening to local farms that provide high quality fresh foods, ideally with minimal adverse environmental impact. Any solution proposed must tie into community food needs.

Project goals should integrate multiple objectives into their design. Proposed projects should seek to address impacts beyond a specific goal such as increasing food produced or available for a specific group. Goals and objectives should integrate economic, social, and environmental impacts such as job training, employment opportunities, small business expansion, neighborhood revitalization, open space development, transportation assistance or other community enhancements.

Proposed projects should seek comprehensive solutions to problems across all levels of the food system, not only short-term food relief. This point is emphasized because some proposals submitted previously were primarily for expanding applicant efforts in food relief and assistance, or for connecting established or partially established programs (such as community gardens and farmers' markets), with little evidence of strategic planning and participation by stakeholders in the proposed project design. Proposals should emphasize a food system and/or food security approach and show evidence of information sharing, coalition building, and substantial community linkages.

Applicants should be aware of several USDA and Federal policy initiatives that have the potential to strengthen the impact and success of some Community Food Projects. These include the Department's Community Food Security Initiative and its seven action areas of local infrastructure, economic and job security, Federal nutrition assistance safety net, supplemental food provided by nonprofit groups, food production and marketing, education and awareness, and research, monitoring, and evaluation.

Other related Federal activities include: food recovery and gleaning efforts; connecting low-income urban consumers with rural food producers; aiding citizens in leaving public assistance and achieving self-sufficiency; and utilizing microenterprise and/or development projects related to community food needs. Other relevant and ongoing Federal initiatives include: USDA farmers' markets; USDA's Office of Sustainable Development and Small Farms; USDA and U.S. Department of Housing and Urban Development designated Empowerment Zones, Enterprise Communities; and the AmeriCorps National Service Program.

Applicants should recognize the role played by food and nutrition assistance programs administered by USDA. Applicants may choose to discuss, in their proposals, the utilization of these programs by the community in connection with the proposed Community Food Project. These programs include: the Food Stamp Program; child nutrition programs such as the School Lunch, School Breakfast, Women, Infants, and Children (WIC) Supplemental Nutrition, Child and Adult Care Food, and Summer Food Service Programs; and commodity distribution programs.

Resources available from other Federal programs such as the Community Food and Nutrition Program (CFNP) and Job Opportunities for Low-Income Individuals (JOLI) program (administered by the Office of Community Services within the U.S. Department of Health and Human Services), may also impact Community Food Projects.

The primary objectives of the CFPCGP are to increase the food self-reliance of communities; promote comprehensive responses to local food, farm and nutrition issues; develop innovative linkages between the public, for-profit, and nonprofit food sectors; and encourage long-term planning activities and comprehensive multi-agency approaches.

Community Food Projects are intended to bring together stakeholders from the distinct parts of the food system. Solutions to hunger and access to food should reflect a process that involves partnership building among the public, private nonprofit, and for-profit sectors. Together, these parties can address issues such as: the capacity of the community to produce food and support local growers; the need for, and location of, grocery stores that market affordable, high quality food; transportation to provide access to food supplies; economic opportunities for residents to increase income, thereby increasing economic access to high quality nutritious food; community development issues; and the environment. Wherever possible, Community Food Projects should support food systems based on strategies that improve the availability of high-quality locally or regionally produced foods to low-income people.

Community Food Projects should build on these local experiences and encourage innovative long-term efforts. A project should be designed to endure and outlive the one-time infusion of Federal funds. Community Food Projects should be designed to become self-supporting (or have a sustainable funding source). Projects also should have the potential to be a replicable model. Examples of previously funded Community Food Projects may be viewed on the Internet in the CFPCGP website at http://www.reeusda.gov/crgam/cfp/community.htm.

b. Training and Technical Assistance Grants. Potential applicants to the Community Food Projects Competitive Grants Program may have outstanding ideas that could address community food security problems, but are reluctant to submit proposals because they may not be familiar with the USDA and other Federal agency grant application and administration processes. The enabling legislation recognized this possibility when it authorized the Secretary of Agriculture to provide technical assistance to an entity seeking the assistance. T&TA project proposals are being solicited in this RFP in order to address this situation. T&TA projects should be designed to assist potential applicants in the following areas: understanding the grant application process; understanding the purposes of the CFPCGP; being familiar with the necessary components of a competitive CFPCGP proposal; understanding what constitutes an appropriate and eligible community food project under the CFPCGP; providing technical assistance, when appropriate, to successful applicants in carrying out their projects; and provide the USDA with a performance report at the conclusion of the grant that delineates the relative successes of their various technical assistance activities.

A T&TA project proposal should demonstrate an applicant's technical expertise in the above noted areas. The proposal should also show that the applicant organization has the capacity to provide training and technical assistance to applicants on a regional or national basis, through regional workshops, electronic media, or other appropriate means. Additionally, the applicant should also demonstrate capacity or experience in being able to assist successful applicants in carrying out their projects. Organizations that can demonstrate an involvement in community food security issues and programs are strongly encouraged to apply.

2. Fund Availability

The amount of funds available in FY 2000 for support of grant awards under this program is approximately $2,400,000. Up to $250,000 of that amount will be available for T&TA Projects.

Applicants should request a budget commensurate with the proposed project. However, no single grant shall exceed $100,000 in any single year or more than $250,000 over three years.

Applicants, regardless of the type of project, may request one, two, or three years of funding, but in all cases, the grant term may not exceed three years for any one project. A Community Food Project may be supported by only a single grant under this program.

Awards will be made based on the merit of the proposed project with budgets considered only after the merits of the project have been determined. USDA reserves the right to negotiate final budgets with successful applicants. The grantee shall perform a substantive portion of the project. No more than one-third of a Community Food Project award, as determined by budget expenditures, may be subawarded to for-profit organizations. For additional knowledge or expertise that is not available within the applicant organization, funds for expert consultation may be included in the “All Other Direct Costs” section of the proposed budget.

C. Definitions

For the purpose of awarding grants under this program, the following definitions are applicable:

Administrator means the Administrator of CSREES and any other officer or employee of the Department to whom the authority involved is delegated.

Authorized departmental officer means the Secretary or any employee of the Department who has the authority to issue or modify grant instruments on behalf of the Secretary.

Authorized organizational representative means the president, director, or chief executive officer or other designated official of the applicant organization who has the authority to commit the resources of the organization.

Budget period means the interval of time (usually 12 months) into which the project period is divided for budgetary and reporting purposes.

Cash contributions means the applicant's cash outlay, including the outlay of money contributed to the applicant by non-Federal third parties.

Community Food Project is a community-based project that requires a one-time infusion of Federal assistance to become self-sustaining and is designed to increase food security in a community by: (i) Meeting the food needs of low-income people; (ii) increasing the self-reliance of communities in providing for their own food needs; and (iii) promoting comprehensive responses to local food, farm, and nutrition issues.

Department or USDA means the United States Department of Agriculture.

Expert reviewers means individuals selected from among those recognized as uniquely qualified by training and experience in their respective fields to give expert advice on the merit of grant applications in such fields who evaluate eligible proposals submitted to this program in their respective area(s) of expertise.

Grant means the award by the Secretary of funds to an eligible entity to assist in meeting the costs of conducting, for the benefit of the public, an identified Community Food or Training and Technical Assistance Project.

Grantee means the organization designated in the grant award document as the responsible legal entity to which a grant is awarded.

Matching means that portion of allowable project costs not borne by the Federal Government, including the value of in-kind contributions.

Prior approval means written approval evidencing prior consent by an authorized departmental officer.

Private non-profit entity means any nongovernmental corporation, trust, association, cooperative or other organization which: (i) Is operated primarily for scientific, educational, service, charitable, or similar purposes in the public interest; (ii) is not organized primarily for profit; and (iii) uses its net proceeds to maintain, improve, and/or expand its operations.

Project means the particular activity within the scope of the program supported by a grant award.

Project director means the single individual designated in the grant application and approved by the Secretary who is responsible for the direction and management of the project.

Project period means the period, as stated in the award document, during which Federal sponsorship begins and ends.

Secretary means the Secretary of Agriculture and any other officer or employee of the Department of Agriculture to whom the authority involved is delegated.

Third party in-kind contributions means non-cash contributions of property or services including real property, equipment, supplies and other expendable property, provided by non-Federal third parties and directly benefitting and specifically identifiable to the project.

Training and Technical Assistance (T&TA) Project means a project of regional or national scope that requests Federal Assistance to help community-based entities develop proposals for funding under the CFPCGP and to provide information, education, and skills training to Community Food Project applicants, potential applicants, and grantees.

D. Eligibility

1. Community Food Project Grant Eligibility

Private, nonprofit or other entities meeting the following three requirements are eligible to receive a Community Food Project grant:

a. Have experience in the area of:

i. Community food work, particularly concerning small and medium-size farms, including the provision of food to people in low-income communities and the development of new markets in low-income communities for agricultural producers; or

ii. Job training and business development activities for food-related activities in low-income communities;

b. Demonstrate competency to implement a project, provide fiscal accountability, collect data, and prepare reports and other necessary documentation; and

c. Demonstrate a willingness to share information with researchers, practitioners, and other interested parties.

2. Technical and Training Assistance Grant Eligibility

Private, nonprofit or other entities meeting the following three requirements are eligible to apply for and receive a T&TA grant under this program:

a. Have the capacity to provide, on a regional or national basis, training and technical assistance in community food security, including the assessment of community food needs, appraisal of existing community assets pertaining to food security issues, coalition building, project development, evaluation and completion, proposal preparation, and fund raising;

b. Demonstrate competency to implement a T&TA project, provide fiscal accountability, collect data, and prepare reports and other necessary documentation; and

c. Demonstrate a willingness to share information with researchers, evaluators, practitioners, and other interested parties.

3. Partners and Collaborators

Applicants are encouraged to seek and create partnerships with public or private, nonprofit or for-profit entities, including links with academic and/or other appropriate professionals, community-based organizations, and local government entities. Only the applicant must meet the eligibility requirements. Project partners and collaborators need not meet the eligibility requirements.

E. Matching Requirements

Successful Community Food Project applicants must provide matching funds amounting to at least 50 percent of the total cost of the project during the term of the grant award. The Federal share of a Community Food Project costs can be no more than 50 percent of the total. Matching funds are not required for T&TA grants.

Community Food Project grantees may provide matching funds through cash and/or in-kind contributions, including third-party in-kind contributions, fairly evaluated, including facilities. The non-Federal share of the funding may come from State government, local government, other non-profit entities, or private sources. Examples of qualifying matching contributions may include direct costs such as: rent for office space used exclusively for the funded project; duplication or postage costs; and staff time from an entity other than the applicant for job training or nutrition education.

Part II—Preparation of a Proposal

A. Program Application Materials

Program application materials are available at the CFPCGP website (http://www.reeusda.gov/crgam/cfp/community.htm). Program application materials also are available from the Proposal Services Unit, Office of Extramural Programs, USDA/CSREES at (202) 401-5048. These materials may also be requested via Internet by sending a message with your name, mailing address (not e-mail) and phone number to psb@reeusda.gov. If calling or sending e-mail, please indicate that you want a copy of the application materials for the Fiscal Year 2000 Community Food Projects Competitive Grants Program.

B. Content of Proposals

1. General

The proposal should follow these guidelines, enabling reviewers to more easily evaluate the merits of each proposal in a systematic, consistent fashion:

(a) The proposal should be prepared on only one side of the page using standard size (8½″ ×11″) white paper, one inch margins, typed or word processed using no type smaller than 12 point font, and single or double spaced. Use an easily readable font face (e.g., Geneva, Helvetica, Times Roman).

(b) Each page of the proposal, beginning after the Project Summary, and including the budget pages, required forms, and any appendices, should be numbered sequentially in the top right hand corner.

(c) The proposal should be stapled in the upper left-hand corner. Do not bind. An original and 8 copies (9 total) must be submitted in one package.

2. Cover Page

Each copy of each grant proposal must have as its cover page an “Application for Funding”, Form CSREES-661. One copy of the application, preferably the original, must contain the pen-and-ink signature(s) of the proposing project director(s) (PD) and the authorized organizational representative who possesses the necessary authority to commit the organization's time and other relevant resources to the project. Any proposed PD or co-PD whose signature does not appear on Form CSREES-661 will not be listed on any resulting grant award. Complete both signature blocks located at the bottom of the “Application for Funding” form.

Form CSREES-661 serves as a source document for the CSREES grant database; it is therefore important that it be completed accurately. The following items are highlighted as having a high potential for errors or misinterpretations:

(a) Title of Proposed Project (Block 6). The title of the proposed project must be brief (80-character maximum), yet represent the major thrust of the effort being proposed.

(b) Blocks 7., 13., 18., 19., 20., and 21. have been completed for you.

(c) In Block 8., enter “Community Food Project”, or “T&TA Project.”

(d) Principal Investigator(s)/Project Director(s) (PI/PD) (Block 15). Note that providing a Social Security Number is voluntary, but is an integral part of the CSREES information system and will assist in the processing of the proposal.

(e) Other Funding Agencies (Block 22). List the names or acronyms of all other public or private funding agencies including other agencies within USDA and other programs funded by CSREES to whom your application has been or might be sent. In the event you decide to send your application to another organization or agency at a later date, you must inform the identified CSREES Program Director as soon as practicable. Submitting your proposal to other potential funding agencies will not prejudice its review by CSREES; however, duplicate support for the same project will not be provided.

3. Table of Contents

For consistency and ease in locating information, each proposal must contain a detailed Table of Contents just after the cover page. The Table of Contents should contain page numbers for each component of the proposal.

4. Project Summary

The Project Summary must be 250 words or less, on a separate page which should be placed immediately after the Table of Contents and should not be numbered. The names and organizations of all PDs and co-PDs should be listed on this form, in addition to the title of the project. The summary should be a self-contained, specific description of the activity to be undertaken and should focus on overall project goal(s) and supporting objectives, and plans to accomplish the project goal(s). The importance of a concise, informative Project Summary cannot be overemphasized.

5. Prior CFPCGP Funding

If an applicant has previously received CFPCGP support, information on the results from prior funding must be included. For each award received, list the CFPCGP award number, the title of the project, the amount and period of support, a brief summary of the results completed, and the actual and anticipated long-term effects of these results. This information should be provided on a separate page, immediately following the project summary.

6. Project Narrative

For Community Food Project Proposals, the Project Narrative shall not exceed 10 single- or double-spaced pages of written text. To ensure fair and equitable competition, reviewers are instructed to read only the first 10 pages of a project narrative and may ignore information on additional pages. The Project Narrative must repeat and respond to the eight points in (a) through (h) below:

a. The Community To Be Served and the Needs To Be Addressed. Identify and succinctly describe the critical elements and needs of the local food economy or food system, including demographics, income, and geographic characteristics of the area to be served.

b. The Organizations Involved in the Project. List the organizations to be involved in carrying out the proposed project and the segments of the local food economy or system they link.

Include a description of the relevant experience of each organization, including the applicant organization, that will be involved, and any project history. Proposals should demonstrate extensive community linkages and coalitions. Letters from the organizations involved acknowledging their support and contributions must be provided in an appendix to the proposal. Letters specifying the type and amount of support, where appropriate, are strongly encouraged to provide evidence of community involvement.

c. Project Goals and Purposes. List the goals and/or purposes of the project and a justification for the goals in terms of the identified need(s).

d. Activities to Achieve the Goals. Discuss how the goals will be achieved. Provide a systematic description of the approach by which the goals will be accomplished.

e. Timeline. Identify the major milestones that will indicate progress toward achieving the project goals. Provide a timeline or systematic description of the approach for accomplishing major project objectives.

f. Relationship to Program Objectives. Discuss how the project will make progress toward addressing the three major objectives of the CFPCGP. Each Community Food Project, by definition, must be designed to: (i) Meet the food needs of low-income people; (ii) increase the self-reliance of communities in providing for their own food needs; and (iii) promote comprehensive responses to local food, farm and nutrition issues.

In addressing the objectives, applicants may want to describe how the project fosters: innovative linkages and coalitions between two or more sectors of the food system; entrepreneurial, job training, and microenterprise opportunities; and short-term and long-term planning to promote community food security through multiple activities conducted in collaboration with other entities.

g. Evaluation. Community Food Project proposals should contain a strong evaluation component. Innovative evaluation strategies are especially encouraged. Evaluations should focus on the measurement of success in meeting the three objectives of the CFPCGP.

Through CFPCGP project operations and an evaluation of them, USDA also hopes to learn more about what happens to make such projects succeed, partially succeed, or fail. Therefore, proposals are encouraged that include both process evaluations (developing and monitoring indicators of progress towards the objectives) and outcome evaluations (to determine whether the objectives were met). Applicants should seek the help of experts in evaluation design and implementation, as appropriate.

h. Self-Sustainability. Describe how a one-time infusion of Federal funds will be sufficient for the proposed Community Food Project to advance local capacity-building and achieve sustainability. Entrepreneurial projects should provide evidence (e.g., a market analysis or the outline of a business plan) to demonstrate that it is likely to become self-sustaining and provide employees with important job skills.

For T&TA project proposals, the Project Narrative shall not exceed 10 pages. To ensure fair and equitable competition, reviewers are instructed to read only the first 10 pages of a project narrative and to ignore information on additional pages. The project narrative must repeat and respond to the following six points in (a) through (f) below:

a. Community Food Security Issues and Programs. The proposal should provide a succinct description of community food security issues and programs and the scope of involvement of the applicant entity. Such items as the food economy or food system should be noted as should pertinent information regarding demographics, income, geographic characteristics of the area(s) previously served.

b. Organizations Involved. List all collaborating organizations and individuals who will be assisting you and their respective roles in provision of training and technical assistance. Provide documentation that these organizations have agreed to collaborate if the proposal is successful.

c. Project Goals and Purposes. List the goals and/or purposes of the project and a justification for the goals in terms of the types of services that will be provided.

d. Activities to Achieve the Goals. Discuss how the goals will be achieved. Provide a systematic description of the approach by which the goals will be accomplished.

e. Time Line. The proposed work should be for a three-year period. Training and technical assistance should be scheduled so that potential applicant organizations will have ample opportunity to take advantage of the assistance offered with enough time to construct and submit a community food project proposal in any given year.

f. Evaluation. T&TA proposals should contain an internal evaluation component so as to provide enough timely information over the course of the project to improve the training and technical assistance.

7. Key Personnel

Identify the key personnel to be involved in the project, including the project director, if known, and describe their relevant experience. In the Appendix, include resumes or vitae that provide adequate information for reviewers to make an informed judgment as to the capabilities and experience of the key personnel. For new positions in the project or for positions that are currently unfilled, a job description should be provided. An applicant should include an organizational chart, if available, detailing where the project fits in the overall organization.

8. Collaborative and/or Subcontractual Arrangements

If it will be necessary to enter into formal consulting or collaborative arrangements with others, such arrangements should be fully explained and justified. Evidence, in the form of a letter or e-mail from the collaborator/subcontractor that details the services that will be provided, and a budget and a budget narrative, should be provided as an appendix to the grant application. If the need for consultant services is anticipated, the proposal narrative should provide a justification for the use of such services, a statement of work to be performed, the rate of pay, and a resume or curriculum vita for each consultant. For purposes of proposal development, informal day-to-day contacts between key project personnel and outside experts are not considered to be collaborative arrangements and thus do not need to be detailed.

All anticipated subcontractual arrangements also should be explained and justified in this section. A proposed statement of work and a budget and budget narrative for each arrangement involving the transfer of substantive programmatic work or the providing of financial assistance to a third party must be provided.

If you expect to enter into subcontractual arrangements, please note that the provisions contained in 7 CFR part 3019, USDA Uniform Administrative Requirements for Grant and Agreements with Institutions of Higher Education, Hospitals, and Other Non-Profit Organizations, and the general provisions contained in 7 CFR part 3015.205, USDA Uniform Federal Assistance Regulations, flow down to subrecipients. In addition, required clauses from Sections 40-48 (“Procurement Standards”) and Appendix A (“Contract Provisions”) to 7 CFR part 3019 should be included in final contractual documents, and it is necessary for the subawardee to make a certification relating to debarment/suspension.

9. Budget

a. Budget Form—Prepare the Community Food Projects Competitive Grants Program budget form in accordance with instructions provided. A separate budget form is required for each year of requested support. In addition, a cumulative budget and budget narrative (see section b. below) is required detailing the total support requested for the overall project period. The budget form may be reproduced as needed by applicants. Funds may be requested under any of the categories listed on the form, provided that the item or service for which support is requested is allowable under the authorizing legislation, the applicable Federal cost principles, and these program guidelines, and can be justified as necessary for the successful conduct of the proposed project.

The following guidelines should be used in developing your proposal budget(s):

1. Salaries and Wages. Salaries and wages are allowable charges and may be requested for personnel who will be working on the project in proportion to the time such personnel will devote to the project. If salary funds are requested, the number of Senior and Other Personnel and the number of CSREES-Funded Work Months must be shown in the spaces provided. Grant funds may not be used to augment the total salary or rate of salary of project personnel or to reimburse them for time in addition to a regular full-time salary covering the same general period of employment. Salary funds requested must be consistent with the normal policies of the institution.

2. Fringe Benefits. Funds may be requested for fringe benefit costs if the usual accounting practices of your organization provide that organizational contributions to employee benefits (social security, retirement, etc.) be treated as direct costs. Fringe benefit costs may be included only for those personnel whose salaries are charged as a direct cost to the project.

3. Nonexpendable Equipment. Nonexpendable equipment means tangible nonexpendable personal property including exempt property charged directly to the award having a useful life of more than one year and an acquisition cost of $5,000 (or lower, depending on institutional policy) or more per unit. As such, items of necessary instrumentation or other nonexpendable equipment should be listed individually by description and estimated cost in the Budget Narrative. This applies to revised budgets as well, as the equipment item(s) and amount(s) may change.

4. Materials and Supplies. The types of expendable materials and supplies which are required to carry out the project should be indicated in general terms with estimated costs in the Budget Narrative.

5. Travel. The type and extent of travel and its relationship to project objectives should be described briefly and justified. Airfare allowances normally will not exceed round-trip jet economy air accommodations. U.S. flag carriers must be used when available. See 7 CFR part 3015.205(b)(4) for further guidance.

All successful applicants should plan to attend an evaluation training meeting. Therefore applicants should include in their proposed budget request funding for two persons to travel to Washington, DC to attend a two to three day meeting. More information will be provided once successful applicants are identified.

6. All Other Direct Costs. Anticipated direct project charges not included in other budget categories must be itemized with estimated costs and justified in the Budget Narrative. This also applies to revised budgets, as the item(s) and dollar amount(s) may change. Examples may include space rental at remote locations, subcontractual costs, and charges for consulting services, telephone, facsimile, shipping costs, and fees necessary for laboratory analyses. You are encouraged to consult the “Instructions for Completing the Community Food Projects Competitive Grants Program Budget” for additional guidance relating to this budget category. Form AD-1048 must be completed by each subcontractor or consultant and retained by the grantee.

7. Indirect Costs—If available, the current rate negotiated with the cognizant Federal negotiating agency should be used. Indirect costs may not exceed the negotiated rate. If a negotiated rate is used, the percentage and base should be indicated in the space allotted under item K. on the Budget Form. If no rate has been negotiated, a reasonable dollar amount for indirect costs may be requested, which will be subject to approval by USDA. In the latter case, if a proposal is recommended for funding, an indirect cost rate proposal must be submitted prior to award to support the amount of indirect costs requested. CSREES will request an indirect cost rate proposal and provide instructions, as necessary. A proposer may elect not to charge indirect costs and, instead, use all grant funds for direct costs. If indirect costs are not charged, the phrase “None requested” should be written in this space.

b. Budget Narrative—All budget categories, with the exception of Indirect Costs for which support is requested, must be individually listed (with costs) and justified on a separate sheet of paper and placed immediately behind the Budget Form.

c. Matching Funds—As stated in part I.E., matching funds are mandatory for Community Food Projects. (Matching funds are not mandatory for T&TA projects.) Proposals should include written verification of commitments of matching support (including both cash and in-kind contributions) from third parties. Written verification means:

(i) For any third party cash contributions, a separate pledge agreement for each donation, signed by the authorized organizational representatives of the donor organization and the applicant organization, which must include: (1) The name, address, and telephone number of the donor; (2) the name of the applicant organization; (3) the title of the project for which the donation is made; (4) the dollar amount of the cash donation; and (5) a statement that the donor will pay the cash contribution during the grant period; and

(ii) For any third party in-kind contributions, a separate pledge agreement for each contribution, signed by the authorized organizational representatives of the donor organization and the applicant organization, which must include: (1) The name, address, and telephone number of the donor; (2) the name of the applicant organization; (3) the title of the project for which the donation is made; (4) a good faith estimate of the current fair market value of the third party in-kind contribution; and (5) a statement that the donor will make the contribution during the grant period.

The sources and amounts of all matching support from outside the applicant institution should be summarized on a separate page and placed in the proposal immediately following the Budget Narrative. All pledge agreements must be placed in the proposal immediately following the summary of matching support.

The value of applicant contributions to the project shall be established in accordance with applicable cost principles. Applicants should refer to the following for further guidance and other requirements relating to matching and allowable costs: 7 CFR part 3019, Uniform Administrative Requirements for Grants and Agreements With Institutions of Higher Education, Hospitals, and Other Nonprofit Organizations; OMB Circular A-21, Cost Principles for Educational Institutions; OMB Circular A-122, Cost Principles for Non-Profit Organizations; Federal Acquisition Regulations (48 CFR subpart 31.2, Principles for determining costs with profitmaking firms and those nonprofit organizations that are specifically excluded from the provisions of OMB Circular No. A-122); and 7 CFR part 3015, the USDA Uniform Federal Assistance Regulations.

10. Current and Pending Support

All proposals must contain Form CSREES-663 listing other current publicly or privately supported (including in-house) projects to which key personnel identified in the proposal have committed portions of their time, whether or not salary support for person(s) involved is included in the budget for this proposed project. Analogous information must be provided for any pending proposals that are being considered by, or that will be submitted in the near future to, other possible sponsors, including other USDA Programs or agencies. Concurrent submission of identical or similar proposals to other possible sponsors will not prejudice proposal review or evaluation by CSREES for this purpose. However, a proposal that duplicates or overlaps substantially with a proposal already reviewed and funded (or to be funded) by another organization or agency will not be funded under this program. Note that the project being proposed should be included in the pending section of the form.

11. Certifications

By signing Form CSREES-661 the applicant is providing the certifications required by 7 CFR part 3017, regarding Debarment and Suspension and Drug Free Workplace, and 7 CFR part 3018, regarding Lobbying. The certification forms are included in the application package for informational purposes only. These forms should not be submitted with the proposal since by signing form CSREES-661 your organization is providing the required certifications. If the project will involve a subcontractor or consultant, the subcontractor/consultant should submit a form AD-1048 to the grantee organization for retention in their records. This form should not be submitted to USDA.

12. Compliance With the National Environmental Policy Act (NEPA) Form CSREES-1234

As outlined in 7 CFR part 3407 (CSREES supplemental regulations implementing NEPA), the environmental data for any proposed project is to be provided to CSREES so that CSREES may determine whether any further action is needed. In most cases, however, the preparation of environmental data may not be required. Certain categories of actions are excluded from the requirements of NEPA.

In order for CSREES to determine whether any further action is needed with respect to NEPA, pertinent information regarding the possible environmental impacts of a particular project is necessary; therefore, Form CSREES-1234, “NEPA Exclusions Form,” must be included in the proposal indicating whether the applicant is of the opinion that the project falls within a categorical exclusion, the specific exclusion, and the reasons therefore. Form CSREES-1234 and supporting documentation should be included as the last component of the proposal.

Even though a project may fall within the categorical exclusions, CSREES may determine that an Environmental Assessment or an Environmental Impact Statement is necessary for an activity. This will be the case in rare instances when substantial controversy on environmental grounds exists or other extraordinary conditions or circumstances are present which may cause such activity to have a significant environmental effect.

C. Submission of Proposals

1. When To Submit (Deadline Date)

Proposals must be received on or by June 29, 2000. Proposals received after this date will not be considered for funding.

2. What To Submit

An original and eight copies must be submitted. All copies of the proposal must be submitted in one package.

3. Where To Submit

Applicants are strongly encouraged to submit completed proposals via overnight mail or delivery service to ensure timely receipt by the USDA. The address for hand-delivered proposals or proposals submitted using an express mail or overnight courier service is: Community Food Projects Competitive Grants Program; c/o Proposal Services Unit; Cooperative State Research, Education, and Extension Service; U.S. Department of Agriculture; Room 303, Aerospace Center; 901 D Street, SW; Washington, DC 20024.

Proposals sent via the U.S. Postal Service must be sent to the following address: Community Food Projects Competitive Grants Program; c/o Proposal Services Unit; Cooperative State Research, Education, and Extension Service; U.S. Department of Agriculture; STOP 2245; 1400 Independence Avenue, SW; Washington, DC 20250-2245.

D. Acknowledgment of Proposals

The receipt of proposals will be acknowledged by e-mail. Therefore, applicants are encouraged to provide e-mail addresses, where designated, on the Form CSREES-661. If the applicant's e-mail address is not indicated, CSREES will acknowledge receipt of the proposal by letter.

Once the proposal has been assigned an identification number, please cite that number on all future correspondence. If the applicant does not receive an acknowledgment within 60 days of the submission deadline, please contact the Program Director.

Part III—Review Process

A. General

Each proposal will be evaluated in a two-part process. First, each proposal will be screened to ensure it meets the basic eligibility requirements as set forth in this RFP. Proposals not meeting the eligibility requirements will be returned without review. Second, each proposal that meets the eligibility requirements will be evaluated and judged on its merits by expert reviewers.

Since the award process must be completed by September 30, 2000, applicants should submit fully developed proposals that meet all the requirements set forth in this RFP and have fully developed budgets as well. However, USDA does retain the right to conduct discussions with applicants to resolve technical and/or budget issues as it deems necessary.

A number of expert reviewers will conduct the merit review based on the evaluation criteria. These reviewers will be drawn from a number of areas, among them government, universities, non-profit organizations, and other pertinent entities involved in community food security or similar activities. The views of the individual reviewers will be used by CSREES to determine which proposals will be recommended to the Administrator for funding. Evaluated proposals will be ranked based on merit. Final approval for those proposals recommended for an award will be made by the Administrator.

There is no commitment by USDA to fund any particular proposal or to make a specific number of awards. Care will be taken to avoid actual, potential, and the appearance of conflicts of interest among reviewers. Evaluations will be confidential to USDA staff members, expert reviewers, and the project director(s), to the extent permitted by law.

B. Evaluation Factors

The evaluation of Community Food Project proposals by expert reviewers will be based on the following criteria, weighted relative to each other, and assigned a point value, as noted in the parentheses following each criteria discussion.

1. How well the proposed project addresses the three statutory CFPCGP objectives of: (i) Meeting the food needs of low-income people; (ii) increasing the self-reliance of communities in providing for their own food needs; and (iii) promoting comprehensive responses to local food, farm, and nutrition issues (25 points);

2. How significant are the food security issues that will be addressed by the proposed project, and is there an informative description of the community, its characteristic, assets, and needs (15 points);

3. The appropriateness of the goals and purposes of the project and how these goals will be achieved. Proposed project activities should be designed to address one or more of the following goals, which will be given equal weight: (i) Developing linkages between two or more sectors of the food system; (ii) supporting the development of entrepreneurial activities; (iii) developing innovative linkages between the for-profit and nonprofit food sectors; and (iv) encouraging long-term planning activities and multi-system, interagency approaches (20 points);

4. The relevance of the experience of the organizations that are involved in the proposed project, including the applicant entity, and the type and extent of support that other organizations will be providing. Applicant organizations should demonstrate a history of commitment to and direct involvement in food security projects in low-income communities or in communities with low-income groups. The qualifications of staff involved with the proposed project and/or organizational leadership should reflect the expertise necessary to carry out the proposed activities or similar types of activities. Experience in and connections with the community will be considered as important as academic or professional credentials in this regard (20 points);

5. The viability of plans for realistically achieving self-sufficiency with a one-time infusion of Federal funds. Entrepreneurial projects should provide evidence (e.g., a market analysis or the outline of a business plan) to demonstrate that it is likely to become self-sustaining. Other projects should identify actual or potential funding sources for continuation of the project after Federal funding has ended (15 points);

6. The strength of the proposed project's evaluation component and how it will contribute to the evaluation of the CFPCGP on a national basis (8 points); and

7. The time line for accomplishing project goals and objectives is realistic and achievable (2 points).

The evaluation of T&TA Projects by expert reviewers will be based on the following criteria, weighted relative to each other, and assigned a point value, as noted in the parentheses following each criteria:

1. How well the proposed project assists applicants, eligible entities, and others in understanding the three statutory CFPCGP objectives of: (i) Meeting the food needs of low income people; (ii) increasing the self-reliance of communities in providing for their own food needs; and (iii) promoting comprehensive responses to local food, farm, and nutrition issues (35 points);

2. The appropriateness of goals and purposes of the project and how those goals will provide T&TA activities that will assist organizations and individuals regionally or nationwide in addressing the CFPCGP goals of: (i) Developing linkages between two or more sectors of the food system; (ii) supporting the development of entrepreneural activities; (iii) developing innovative linkages between the for-profit and nonprofit food sectors; and (iv) encouraging long-term planning activities and multiple activities conducted in collaboration with other entities (30 points);

3. The experience of the applicant and other organizations (if any) to be involved in the proposed project. Applicants should demonstrate a history of or the capability for involvement in T&TA on Community Food Projects or other similar programs. The relevant qualifications of staff involved in the proposed project should be provided (20 points) and;

4. The timeline for accomplishing the planning, scheduling, and delivery of T&TA is realistic and achievable (15 points).

C. Conflicts-of-Interest and Confidentiality

During the evaluation process, extreme care will be taken to prevent any actual or perceived conflicts-of-interest that may impact review or evaluation. For the purpose of determining conflict-of-interest the academic and administrative autonomy of an institution shall be determined by reference to the January 1998 issue of the Codebook for Compatible Statistical Reporting of Federal Support to Universities, Colleges, and Nonprofit Institutions, prepared by Quantum Research Corporation for the National Science Foundation.

Names of submitting institutions and individuals, as well as proposal content and evaluations, will be kept confidential, except to those involved in the review process, to the extent allowed by law. In addition, the identities of expert reviewers will remain confidential throughout the entire review process. Therefore, the names of reviewers will not be released to applicants.

Part IV—Additional Information

A. Access to Peer Review Information

Copies of summary reviews, not including the identity of reviewers, will be sent to the applicant PD after the review process has been completed.

B. Grant Awards

(1) General

Within the limit of funds available for such purpose, the awarding official of CSREES shall make grants to those responsible, eligible applicants whose proposals are judged most meritorious under the procedures set forth in this RFP. The date specified by the Administrator as the effective date of the grant shall be no later than September 30. It should be noted that the project need not be initiated on the grant effective date, but as soon thereafter as practical so that project goals may be attained within the funded project period. All funds granted by CSREES under this RFP shall be expended solely for the purpose for which the funds are granted in accordance with the approved application and budget, the regulations, the terms and conditions of the award, the applicable Federal cost principles, and the Department's assistance regulations (parts 3015, 3016, and 3019 of 7 CFR).

(2) Organizational Management Information

Specific management information relating to an applicant shall be submitted on a one-time basis as part of the responsibility determination prior to the award of a grant identified under this RFP, if such information has not been provided previously under this or another CSREES program. CSREES will provide copies of forms recommended for use in fulfilling these requirements as part of the preaward process.

(3) Grant Award Document and Notice of Grant Award

The grant award document shall include at a minimum the following:

(a) Legal name and address of performing organization or institution to whom the Administrator has awarded the grant;

(b) Title of project;

(c) Name(s) and address(es) of project director(s) chosen to direct and control approved activities;

(d) Identifying grant number assigned by the Department;

(e) Project period, specifying the amount of time the Department intends to support the project;

(f) Total amount of Departmental financial assistance approved by the Administrator during the project period;

(g) Legal authority(ies) under which the grant is awarded;

(h) Approved budget plan for categorizing allocable project funds to accomplish the stated purpose of the grant award; and

(i) Other information or provisions deemed necessary by CSREES to carry out its respective granting activities or to accomplish the purpose of a particular grant.

The notice of grant award, in the form of a letter, will be prepared and will provide pertinent instructions or information to the grantee that is not included in the grant award document.

All grants awarded under this program will be awarded using a funding mechanism whereby CSREES agrees to support a specified level of effort for a predetermined time period without additional support at a future date.

C. Use of Funds; Changes

(1) Delegation of Fiscal Responsibility

Unless the terms and conditions of the grant state otherwise, the grantee may not in whole or in part delegate or transfer to another person, institution, or organization the responsibility for use or expenditure of grant funds.

(2) Changes in Project Plans

(a) The permissible changes by the grantee, PD(s), or other key project personnel in the approved project grant shall be limited to changes in methodology, techniques, or other aspects of the project to expedite achievement of the project's approved goals. If the grantee or the PD(s) is uncertain as to whether a change complies with this provision, the question must be referred to the CSREES Authorized Departmental Officer (ADO) for a final determination.

(b) Changes in approved goals or objectives shall be requested by the grantee and approved in writing by the CSREES ADO prior to effecting such changes. In no event shall requests for such changes be approved which are outside the scope of the original approved project.

(c) Changes in approved project leadership or the replacement or reassignment of other key project personnel shall be requested by the grantee and approved in writing by the awarding official of CSREES prior to effecting such changes.

(d) Transfers of actual performance of the substantive programmatic work in whole or in part and provisions for payment of funds, whether or not Federal funds are involved, shall be requested by the grantee and approved in writing by the ADO prior to effecting such transfers, unless prescribed otherwise in the terms and conditions of the grant.

(e) Changes in Project Period: The project period may be extended by CSREES without additional financial support, for such additional period(s) as the ADO determines may be necessary to complete or fulfill the purposes of an approved project. Any extension of time shall be conditioned upon prior request by the grantee and approval in writing by the ADO, unless prescribed otherwise in the terms and conditions of a grant, but in no case shall a grant period of performance exceed three (3) years.

(f) Changes in Approved Budget: Changes in an approved budget must be requested by the grantee and approved in writing by the ADO prior to instituting such changes if the revision will involve transfers or expenditures of amounts requiring prior approval as set forth in the applicable Federal cost principles, Departmental regulations, or in the grant award.

D. Applicable Federal Statutes and Regulations

Several other Federal statutes and regulations apply to grant proposals considered for review and to grants awarded under this program. These include but are not limited to:

7 CFR Part 1.1—USDA implementation of the Freedom of Information Act.

7 CFR Part 3—USDA implementation of OMB Circular No. A-129 regarding debt collection.

7 CFR Part 15, subpart A—USDA implementation of Title VI of the Civil Rights Act of 1964, as amended.

7 CFR Part 3015—USDA Uniform Federal Assistance Regulations, implementing OMB directives (e.g., Circulars Nos. A-21 and A-122) and incorporating provisions of 31 U.S.C. 6301-6308, as well as general policy requirements applicable to recipients of Departmental financial assistance.

7 CFR Part 3016—Uniform Administrative Requirements for Grants and Cooperative Agreements to State and Local Governments.

7 CFR Part 3017—USDA implementation of Governmentwide Debarment and Suspension (Nonprocurement) and Governmentwide Requirements for Drug-Free Workplace (Grants).

7 CFR Part 3018—USDA implementation of Restrictions on Lobbying. Imposes on recipients of Federal contracts, grants, cooperative agreements, and loans prohibitions and requirements for disclosure and certification related to lobbying.

7 CFR Part 3019—USDA implementation of OMB Circular A-110, Uniform Administrative Requirements for Grants and Agreements With Institutions of Higher Education, Hospitals, and Other Nonprofit Organizations.

7 CFR Part 3052—USDA implementation of OMB Circular No. A-133, Audits of States, Local Governments, and Non-profit Organizations.

7 CFR Part 3407—CSREES supplemental regulations for implementation of the National Environmental Policy Act of 1969, as amended.

29 U.S.C. 794 (section 504, Rehabilitation Act of 1973) and 7 CFR Part 15d (USDA implementation of statute)—prohibiting discrimination based upon physical or mental handicap in Federally assisted programs.

35 U.S.C. 200 et seq.—Bayh-Dole Act, controlling allocation of rights to inventions made by employees of small business firms and domestic nonprofit organizations, including universities, in Federally assisted programs (implementing regulations are contained in 37 CFR part 401).

E. Confidential Aspects of Proposals and Awards

(1) When a proposal results in a grant, it becomes a part of the record of the Agency's transactions, available to the public upon specific request. Information that the Secretary determines to be of a confidential, privileged, or proprietary nature will be held in confidence to the extent permitted by law. Therefore, any information that the applicant wishes to have considered as confidential, privileged, or proprietary should be clearly marked within the proposal.

(2) When a proposal does not result in a grant the original copy will be retained by the CSREES for a period of one year. Other copies will be destroyed. Such a proposal will be released only with the consent of the applicant or to the extent required by law. A proposal may be withdrawn at any time prior to the final action thereon.

F. Regulatory Information

For the reasons set forth in the final Rule-related Notice to 7 CFR part 3015, subpart V (48 FR 29115, June 24, 1983), this program is excluded from the scope of the Executive Order 12372 which requires intergovernmental consultation with State and local officials. Under the provisions of the Paperwork Reduction Act of 1995 as amended (44 U.S.C. chapter 35), the collection of information requirements contained in this Notice have been approved under OMB Document No. 0524-0022.

Done at Washington, DC, this 11th day of May 2000.
Colien Hefferan,
Associate Administrator, Cooperative State Research, Education, and Extension Service.

[FR Doc. 00-12336 Filed 5-16-00; 8:45 am]

BILLING CODE 3410-22-P